DEPARTMENT OF COMMERCE

National Oceanic and Atmospheric Administration

[I.D. 072204C]

Endangered and Threatened Species; Take of Anadromous Fish

AGENCY: National Marine Fisheries Service (NOAA Fisheries), National Oceanic and Atmospheric Administration (NOAA), Commerce.

ACTION: Receipt of applications for issuance and renewal and modification of scientific research/enhancement permits and request for comment.

SUMMARY: Notice is hereby given that NOAA Fisheries has received applications to renew and modify permits from Bureau of Reclamation, Weaverville, CA (Permit 1072) and Bureau of Land Management, Arcata, CA (Permit 1088), and to issue a new Permit to Humboldt State University Foundation, Institute for River Ecosystems (1283). These permits would affect any or all of three Evolutionarily Significant Units (ESUs) of salmonids identified in the Supplementary Information section. This document serves to notify the public of the availability of the permit application for review and comment before a final approval or disapproval is made by NOAA Fisheries.

DATES: Written comments on the permit application must be received at the appropriate address or fax number (see ADDRESSES) no later than 5 p.m. Daylight Savings Time on September 3, 2004.

ADDRESSES: Written comments on any of these requests should be sent to the appropriate office as indicated below. Comments may also be sent via facsimile to the number indicated for the request. Comments will be accepted if submitted via e-mail at FRNpermits.ar@noaa.gov. Email comments must have the permit number in the subject line. The applications and related documents are available for review in the indicated office, by appointment: For Permits 1072, 1088, and 1283: Karen Hans, Protected Species Division, NOAA Fisheries, 1655 Heindon Road, Arcata, CA 95521 (ph: 707-825-5180, fax: 707-825-4840).

FOR FURTHER INFORMATION CONTACT: Karen Hans at phone number (707 825 5180), or e-mail: karen.hans@noaa.gov

SUPPLEMENTARY INFORMATION:

Authority

Under section 3(18) of the Endangered Species Act of 1973 as amended (ESA) (16 U.S.C. 1536 et seq.), take is defined as “to harass, harm, pursue , hunt, shoot, wound, kill, trap, capture, or collect, or to attempt to engage in any such conduct”. Under section 10(a)(1)(A) of the ESA, “The Secretary may permit, under such terms and conditions as he shall prescribe- (A) any act otherwise prohibited by section 9 for scientific purposes...”. Issuance of permits and permit modifications, as required by the ESA, is based on a finding that such permits/modifications (1) are applied for in good faith, (2) would not operate to the disadvantage of the listed species which are the subject of the permits, and (3) are consistent with the purposes and policies set forth in section 2 of the ESA. Authority to take listed species is subject to conditions set forth in the permits. Permits and modifications are issued in accordance with and are subject to the ESA and NOAA Fisheries regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NOAA Fisheries.

Species Covered in This Notice

This notice is relevant to the following three threatened salmonid ESUs:

Southern Oregon/Northern California Coast (SONCC) coho salmon (Oncorhynchus kisutch),

California Coastal (CC) Chinook salmon ( O. tshawytscha).

Northern California (NC) steelhead ( O. mykiss),

Renewal and Modification Requests Received

Permit 1072

The Bureau of Reclamation (BOR) has requested the renewal and modification of Permit 1072 for take of juvenile SONCC coho salmon and tissue collection from adult carcasses from these species, associated with studies assessing presence and population abundances, and genetic diversity of salmon and steelhead in the Trinity River. Permit 1072 was originally issued on May 4, 1998. The BOR has proposed to use in-stream trapping as the method of capture. The BOR has requested non-lethal take of 4650 juvenile SONCC coho salmon with an unintentional mortality of 3.0 percent of fish captured. Permit 1072 will expire on September 1, 2014.

Permit 1088

The Bureau of Land Management (BLM) has requested the renewal and modification of Permit 1088 for take of SONCC coho salmon, CC Chinook salmon, and NC steelhead associated with studies assessing presence and population abundances of salmon and steelhead in selected locations on BLM lands under the jurisdiction of the Arcata Field Office. The BLM proposes to capture juvenile and adult salmon and steelhead by in-stream traps and electrofishing, and requests take for juvenile salmon and steelhead captured during macroinvertebrate sampling. Permit 1088 was originally issued on April 24, 1998. The BLM has requested non-lethal take of up to 12,200 juvenile SONCC coho salmon with an unintentional mortality of 1.0 percent of fish handled; 20,050 juvenile CC Chinook salmon with an unintentional mortality of 1.0 percent of fish handled; and 60,400 juvenile NC steelhead with an unintentional mortality of 1.0 percent of fish handled. Permit 1088 will expire April 1, 2014.

Issuance Request Received

Permit 1283

Humboldt State University Foundation Institute for River Ecosystems (IRE) has requested the issuance of Permit 1283 for take of SONCC coho salmon, CC Chinook salmon, and NC steelhead associated with studies assessing presence and population abundances of coho salmon and steelhead in selected locations in the Mad-Redwood hydrologic unit (MR-HUC). The MR-HUC includes all anadromous streams that drain into Humboldt Bay and all streams that drain into the Pacific Ocean north to, but not including, the Klamath River. The IRE has requested non-lethal take of up to 9,000 juvenile SONCC coho salmon with an unintentional mortality of 2.0 percent of fish handled; 30 juvenile CC Chinook salmon with an unintentional mortality of 1 fish; and 9,600 juvenile NC steelhead with an unintentional mortality of 2.0 percent of fish handled. Permit 1283 will expire January 1, 2012.

Dated: July 29, 2004.
Susan Pultz,
Acting Chief, Endangered Species Division, Office of Protected Resources, National Marine Fisheries Service.

[FR Doc. 04-17806 Filed 8-3-04; 8:45 am]

BILLING CODE 3510-22-S